DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received By EDA for Certification Eligibility To Apply for Trade Adjustment Assistance
[2/23/2013 through 2/26/2013]
Firm name | Firm address | Date accepted for investigation | Product(s)
Tesko Welding & Manufacturing Company, Inc | 7350 W Montrose Avenue, Norridge, IL 60706 | 2/25/2013 | The firm manufactures metal forms for sidewalk and curb concrete pouring in the construction industry.
Die-Tech, Inc. | 295 Sipe Road, York Haven, PA 17370 | 2/26/2013 | Firm manufactures precision metal stampings used for terminals, edge clip connectors and contacts, pump and filter components.
Stacy Machine & Tooling, Inc. | 2810 Industrial Lane, Broomfield, CO 80020 | 2/26/2013 | The company produces metal manufactured parts that are produced using CNC mills and lathes. Materials used include steel, aluminum, plastic and exotic metals.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: February 26, 2013.
Miriam Kearse,
Eligibility Examiner.

[FR Doc. 2013-04868 Filed 3-1-13; 8:45 am]

BILLING CODE 3510-WH-P